OFFICE OF PERSONNEL MANAGEMENT

Revision of Information Collection: Combined Federal Campaign Applications

AGENCY: U.S. Office of Personnel Management.

ACTION: 60-Day notice and request for comments.

SUMMARY: The Combined Federal Campaign, Office of Personnel Management (OPM) offers the general public and other federal agencies the opportunity to comment on a revision to an existing information collection request, Combined Federal Campaign Applications OMB Control No. 3206-0131, which include OPM Forms 1647 A-E. As required by the Paperwork Reduction Act of 1995, (Pub. L. 104-13, 44 U.S.C. chapter 35) as amended by the Clinger-Cohen Act (Pub. L. 104-106), OPM is soliciting comments for this collection. The Office of Personnel Management is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until July 16, 2012. This process is conducted in accordance with 5 CFR 1320.1.

ADDRESSES: Interested persons are invited to submit written comments on the proposed information collection to the U.S. Office of Personnel Management, Combined Federal Campaign, 1900 E. Street NW., Washington, DC 20415, Attention: Curtis Rumbaugh or sent via electronic mail to curtis.rumbaugh@opm.gov.

FOR FURTHER INFORMATION CONTACT: A copy of this ICR, with applicable supporting documentation, may be obtained by contacting the U.S. Office of Personnel Management, Combined Federal Campaign, 1900 E. Street NW., Washington, DC 20415, Attention: Curtis Rumbaugh or sent via electronic mail to curtis.rumbaugh@opm.gov.

SUPPLEMENTARY INFORMATION: The Combined Federal Campaign Eligibility Applications are used to review the eligibility of national, international, and local charitable organizations that wish to participate in the Combined Federal Campaign. The proposed revisions reflect changes in eligibility guidance from the Office of Personnel Management.

Analysis

Agency: Combined Federal Campaign, Office of Personnel Management.

Title: OPM Forms 1647 A-E, OMB Control No. 3206-0131.

Frequency: Annually.

Affected Public: Individuals or Households.

Number of Respondents: 25,000.

Estimated Time Per Respondent: 3 hours.

Total Burden Hours: 75,000 hours.

U.S. Office of Personnel Management.
John Berry,
Director.

[FR Doc. 2012-11726 Filed 5-14-12; 8:45 am]

BILLING CODE 6325-46-P